DEPARTMENT OF HOMELAND SECURITY

Coast Guard

[USCG-2000-7848]

Inland Tank Barge Certificates of Inspection; Administrative Changes

AGENCY: Coast Guard, DHS.

ACTION: Notice of results.

SUMMARY: The Coast Guard commissioned a one-year tank barge Certificate of Inspection (COI) pilot program to test administrative changes to inland tank barge COIs. Under the old Marine Safety Information System, a regulatory change would have been required had any changes been made to the COIs. Use of the new Marine Information for Safety and Law Enforcement information system allows easy access to the COIs; therefore no change in the regulations is needed.

DATES: No further actions are planned.

FOR FURTHER INFORMATION CONTACT: For questions on this Notice, contact Commander Robert Hennessy, U.S. Coast Guard Headquarters, 2100 Second Street, SW., Washington, DC 20593-0001, telephone: 202-267-0103, facsimile: 202-267-4570, e-mail: RHennessy@comdt.uscg.mil or Lieutenant Raymond Lechner, U.S. Coast Guard Marine Safety Center, 400 7th Street, SW., Washington, DC 20590, telephone: 202-366-6462, e-mail: RLechner@msc.uscg.mil.

SUPPLEMENTARY INFORMATION: A pilot program was initiated to evaluate a Chemical Transportation Advisory Committee (CTAC) recommendation. The pilot program assessed the benefits of shifting the vessel cargo authority and conditions of carriage information from one required document (the vessel's Certificate of Inspection (COI)) to another required document (the vessel's cargo transfer procedures). Background information about the pilot program conducted by the Marine Safety Office, New Orleans, LA, in cooperation with the Marine Safety Center, American Commercial Barge Lines, and the Petroleum Services Corporation, can be found in the August 31, 2000, Federal Register Notice (65 FR 53071).

Since the pilot program was initiated, the Coast Guard now has the Marine Information for Safety and Law Enforcement (MISLE) information system in use. MISLE allows for a different presentation of cargo information than the old Marine Safety Information System. A Certificate of Inspection for inland tank barges and a newly developed Cargo Authority Attachment are now easily accessible from the MISLE; therefore, no changes in the regulations are required. Additional information can be found on the Marine Safety Center's Web site: http://www.uscg.mil/hq/msc/T2.misle.htm under “T2: Tank Vessel Cargo and Vapor Control Authority Under MISLE.”

Dated: February 27, 2004.
Joseph J. Angelo,
Director of Standards, Marine Safety, Security and Environmental Protection.

[FR Doc. 04-5300 Filed 3-9-04; 8:45 am]

BILLING CODE 4910-15-P